Proclamation 9033 of September 30, 2013

National Substance Abuse Prevention Month, 2013

By the President of the United States of America

A Proclamation

Today, too many Americans face futures limited by substance use, which threatens health, safety, and academic performance. Substance use disorders are linked to crime, motor vehicle crashes, and fatalities. This month, we recognize substance abuse prevention programs across our country, and we do our part to build healthier neighborhoods and brighter futures.

This year's theme, “Learn it! Live it!” encourages Americans to come together, learn how substance use affects our communities, and live to set a positive example for our families, friends, and neighbors. My Administration's National Drug Control Strategy begins with a commitment to stop drug use before it begins. We have expanded evidence-based national and community-focused programs that work to prevent substance use where young people learn, grow, and play. We support substance-free workplaces, and we provide information on effective strategies to parents and communities nationwide. Through the Affordable Care Act, we expanded substance use disorder and mental health benefits for more than 60 million Americans. And beginning this month, those who have been locked out of health insurance can sign up for affordable coverage by visiting www.HealthCare.gov.

Because adult role models play an integral role in preventing youth substance abuse, we must lead by example, adopt positive behaviors, and talk to our kids about living substance-free. This month, we stand with local coalitions and community organizations as they advance their drive to keep young people, families, and neighborhoods free from drug and alcohol abuse. I encourage parents, schools, health officials, law enforcement professionals, faith-based organizations, workplaces, the recovery community, and all Americans to join in this effort. If we take up the mantle of healthy lifestyles together, we can help our children avoid the devastating consequences of substance abuse and give them the chance to explore their limitless potential.

NOW, THEREFORE, I, BARACK OBAMA, President of the United States of America, by virtue of the authority vested in me by the Constitution and the laws of the United States, do hereby proclaim October 2013 as National Substance Abuse Prevention Month. I call upon all Americans to engage in appropriate programs and activities to promote comprehensive substance abuse prevention efforts within their communities.

IN WITNESS WHEREOF, I have hereunto set my hand this thirtieth day of September, in the year of our Lord two thousand thirteen, and of the Independence of the United States of America the two hundred and thirty-eighth.

[FR Doc. 2013-24387

Filed 10-3-13; 8:45 am]

Billing code 3295-F4